DEPARTMENT OF ENERGY

Federal Energy Regulatory Commission

[Project No. 2616-004 New York]

Erie Boulevard Hydropower L.P.; Notice of Availability of Environmental Assessment

June 30, 2000.

In accordance with the National Environmental Policy Act of 1969 and the Federal Energy Regulatory Commission's (Commission's) regulations, 18 CFR Part 380 (Order No. 486, 52 FR 47897), the Office of Energy Projects has reviewed the application for a new major license for the Hoosic River Hydroelectric Project located on the Hoosic River in Rensselaer and Washington Counties, New York, and has prepared an Environmental Assessment (EA) for the proposed project. In the EA, the Commission's staff has analyzed the potential environmental effects of the proposed project and has concluded that approval of the proposed project, with appropriate environmental measures, would not constitute a major federal action significantly affecting the quality of the human environment.

Copies of the EA are available for review in the Public Reference Branch of the Commission's offices at 888 First Street, NE., Room 2A, Washington, DC 20426, and may also be viewed on the web at http://www.ferc.fed.us/online/rims.htm (please call (202) 208-2222 for assistance).

David P. Boergers,
Secretary.

[FR Doc. 00-17056 Filed 7-5-00; 8:45 am]

BILLING CODE 6717-01-M